DEPARTMENT OF EDUCATION

Direct Grant Programs

AGENCY: Department of Education.

ACTION: Notice reopening competitions or extending application deadline dates for certain direct grant and fellowship programs.

SUMMARY: The Secretary extends the deadline dates for the submission of applications for several programs. In all of the affected competitions the Secretary is making new awards for fiscal year (FY) 2006. The Secretary takes this action to allow more time for the preparation and submission of applications by potential applicants who have been affected by Hurricanes Katrina and/or Rita and are located in Louisiana, Texas, Alabama, Mississippi, and Florida. The reopening and extension of the programs or competitions are intended to help potential applicants compete fairly with other applicants under these programs.

Note: Two of the affected programs or competitions are administered by the Office of Postsecondary Education and three are administered by the Office of Special Education and Rehabilitative Services. You can find information related to each of these competitions under the “List of Programs Affected” in this notice.

Eligibility: The reopening or extension of deadline dates in this notice applies to you if you are: (1) an institution of higher education, state educational agency (SEA), local educational agency (LEA), non-profit organization or other public or private organization applicant that is located in a federally-declared disaster area as determined by the Federal Emergency Management Agency (FEMA) (see http://www.fema.gov/news/disasters.fema) and you were adversely affected by Hurricanes Katrina and/or Rita, or (2) an individual applicant who resides or resided, on the disaster declaration date, in a federally-declared disaster area as determined by FEMA (see http://www.fema.gov/news/disasters.fema) and you were adversely affected by Hurricanes Katrina and/or Rita. You must provide a certification in your application that you meet one of these criteria for submitting an application on the Extended Deadline and be prepared to provide appropriate supporting documentation, if requested. If you are submitting the application electronically, the submission of the application serves as your attestation that you meet the criteria for submitting an application on the Extended Deadline.

Note for Individual Applicants Under Competition 84.170A, Jacob K. Javits Fellowship Program:

The reopening or extension of deadline date for this competition also applies to you if you cannot obtain your undergraduate academic records or references from your undergraduate institution because the institution is in a federally-declared disaster area as determined by FEMA (see http://www.fema.gov/news/disasters.fema) and was adversely affected by Hurricanes Katrina and/or Rita.

DATES: The new deadline date for transmitting applications under each competition is listed with that competition in the “List of Programs Affected.” If the program is subject to Executive Order 12372, the relevant deadline for intergovernmental review is also indicated in the chart.

ADDRESSES: The address and telephone number for obtaining applications for, or information about, an individual program are in the application notice for that program. We have listed the date and Federal Register citation of the application notice for each program.

If you use a telecommunications device for the deaf (TDD), you may call the TDD number, if any, listed in the individual application notice. If we have not listed a TDD number, you may call the Federal Relay Service (FRS) at 1-800-877-8339.

If you want to transmit a recommendation or comment under Executive Order 12372, you can find the latest list and addresses of individual SPOCs on the Web site of the Office of Management and Budget at the following address: http://www.whitehouse.gov/omb/grants/spoc.html

You can also find the list of SPOCs in the appendix to the Forecast of Funding Opportunities under the Department of Education Discretionary Grant Programs for Fiscal Year (FY) 2005 and 2006. This is available on the Internet at: http://www.ed.gov/funding.html.

SUPPLEMENTARY INFORMATION: The following is specific information about each of the programs or competitions covered by this notice:

List of Programs Affected
CFDA No. and Name | Publication Date and Federal Register Citation | Original Deadline for Transmittal of Applications | Extended Deadline for Transmittal of Applications | Original Deadline for Intergovernmental Review | Extended Deadline for Intergovernmental Review
Office of Postsecondary Education
84.200A: Graduate Assistance in Areas of National Need | 8/22/05 (70 FR 48940) | 11/14/05 | 12/1/05 | 1/16/06 | 2/1/06.
84.170A: Jacob K. Javits Fellowship Program | 6/14/05 (70 FR 34454) | 10/3/05; Free Application for Federal Student Aid 1/31/06 | 12/1/05 Free Application for Federal Student Aid 1/31/06 | N/A | N/A.
Office of Special Education and Rehabilitative Services
84.129B: Rehabilitation Training: Rehabilitation Long-Term Training—Vocational Rehabilitation Counseling | 7/20/05 (70 FR 41693) | 9/6/05 | 10/19/2005 | N/A | N/A.
84.129L, P, and Q: Rehabilitation Training: Rehabilitation Long-Term Training | 8/3/05 (70 FR 44588) | 9/19/05 | 10/19/2005 | N/A | N/A.
84.373X: Special Education—Technical Assistance on State Data Collection—IDEA General Supervision Enhancement Grant | 8/4/05 (70 FR 44914) | 10/3/05 | 10/19/2005 | N/A | N/A.

If you are an individual with a disability, you may obtain a copy of this notice in an alternative format (e.g., Braille, large print, audiotape, or computer diskette) on request to the contact person listed in the individual application notices.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: October 4, 2005.
Jack Martin,
Chief Financial Officer.

[FR Doc. 05-20263 Filed 10-6-05; 8:45 am]

BILLING CODE 4000-01-U